DEPARTMENT OF COMMERCE

National Institute of Standards and Technology

Proposed Information Collection; Comment Request; Evaluation of Whole-Body Gamma-Ray System—Information Regarding the Administrated Radioactive Material

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 20, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Kenneth Inn, Research Chemist, at (301) 975-5541, kenneth.inn@nist.gov.

SUPPLEMENTARY INFORMATION:

I. Abstract

This project will determine the whole-body detector response of the Radioactivity Group's Virtual Gamma-ray Range system to provide support in the event of an emergency radiological incident. The project will evaluate the system's response to a variety of body geometries, and relate the system's response to handheld in vivo gamma-ray detectors readings that would be used during radiological emergency response. Because there are inadequate numbers of phantom types to approximate all body shapes and sizes, we plan to use NIST employees (participants) already subjected to nuclear medicine procedures as radioactive “sources” to determine the response of our High Purity Germanium (HPGe) measurements system. Physical parameters of the participants such as height, weight will be needed to assess the correlation with counting response that is expected to have uncertainties as large as 50%. The physician or technician who administers the injection of nuclear radiation will be requested to provide written documentation containing the identity and time of the injected radionuclide given to the participants, its radioactivity content, and the calibration date and time of the radionuclide received. All information will be carefully safeguarded.

II. Method of Collection

A paper form will be distributed to the physicians by the participant. Once completed by the physician/technician, the paper form will be returned, by the participant, to the investigator.

III. Data

OMB Number: None.

Form Number: None.

Type of Review: Regular.

Affected Public: Business or other for-profit organizations; Federal Government; and Individuals or households.

Estimated Number of Respondents: 250.

Estimated Time Per Response: 6 minutes.

Estimated Total Annual Burden Hours: 5.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 18, 2006.
Gwellnar Banks,
Management Analyst, Office of the Chief Information Officer.

[FR Doc. E6-21921 Filed 12-21-06; 8:45 am]

BILLING CODE 3510-13-P